Title 3—

The President

Proclamation 8690 of June 17, 2011

Father’s Day, 2011

By the President of the United States of America

A Proclamation

Parenthood is the ultimate gift and an incredible responsibility. Every day, fathers across our country give everything they have to build a better future for their family, asking nothing in return but their children’s love and success. On Father’s Day, we honor the men in our lives who have helped shape us for the good, and we recommit to supporting fatherhood in our families, in our communities, and across our Nation.

Fathers, along with our mothers, are our first teachers, coaches, and advisors. They help us grow into adults, consoling us in times of need and celebrating with us in times of triumph. Strong male role models come in all forms, but they have one thing in common: they show up and give it their best. A father figure may be a biological father, or he may be a surrogate father who raises, mentors, or cares for another’s child. Every family is different, but what matters is the unconditional support, guidance, and love fathers and mentors give us throughout life.

Today, too many children in our country grow up without such support and guidance. A father’s absence is felt by children, families, and communities in countless ways, leaving a hole that can have lasting effects. Their absence is also felt by mothers, who work overtime and double shifts, put food on the table, and care for children alone while trying to make ends meet. And it is felt in our communities, when boys grow up without male leaders to inspire them.

My Administration has made supporting fathers and their communities a priority. Last year on Father’s Day, I announced the President’s Fatherhood and Mentoring Initiative, a nationwide effort to support organizations that foster responsible fatherhood and help re-engage fathers in the lives of their children. We have bolstered community and faith-based programs that provide valuable support networks for fathers. We are also promoting work-life balances that benefit families, and partnering with businesses across America to create opportunities for fathers and their children to spend time together. And military leaders are joining in our efforts to help families keep in touch when a dad is deployed overseas, so the fathers who serve to protect all our children can stay connected to their own.

On Father’s Day, we celebrate the men who make a difference in the life of a child, and we pay tribute to all the fathers who have been our guiding lights. In the days ahead, we recommit ourselves to making fatherhood, and the support men need to be fathers, a priority in our Nation.

NOW, THEREFORE, I, BARACK OBAMA, President of the United States of America, in accordance with a joint resolution of the Congress approved April 24, 1972, as amended (36 U.S.C. 109), do hereby proclaim June 19, 2011, as Father’s Day. I direct the appropriate officials of the Government to display the flag of the United States on all Government buildings on this day, and I call upon all citizens to observe this day with appropriate programs, ceremonies, and activities.

IN WITNESS WHEREOF, I have hereunto set my hand this seventeenth day of June, in the year of our Lord two thousand eleven, and of the Independence of the United States of America the two hundred and thirty-fifth.

[FR Doc. 2011-15780

Filed 6-21-11; 11:15 am]

Billing code 3195-W1-P